ENVIRONMENTAL PROTECTION AGENCY

40 CFR Part 52

[EPA-R10-OAR-2011-0315, FRL-9296-8]

Approval and Promulgation of Implementation Plans; Washington: Extension of Comment Period

AGENCY: Environmental Protection Agency (EPA).

ACTION: Proposed rule; extension of comment period.

SUMMARY: EPA is extending the public comment period on EPA's notice of proposed rulemaking “Approval and Promulgation of Implementation Plans; Washington: Correction” published on March 23, 2011 at 76 FR 16365. A commenter requested additional time to review the proposal and prepare comments. In response to this request, EPA is extending the original 30-day comment period for an additional 30 days. The extended comment period will close on May 23, 2011.

DATES: Comments must be received on or before May 23, 2011.

ADDRESSES: Submit your comments, identified by Docket ID No. EPA-R10-OAR-2011-0315, by any of the following methods:

• http://www.regulations.gov: Follow the online instructions for submitting comments.

• E-mail: R10-Public_Comments@epa.gov.

• Mail: Kristin Hall, EPA Region 10, Office of Air, Waste and Toxics (AWT-107), 1200 Sixth Avenue, Suite 900, Seattle, WA 98101.

• Hand Delivery/Courier: EPA Region 10, 1200 Sixth Avenue, Suite 900, Seattle WA, 98101. Attention: Kristin Hall, Office of Air, Waste and Toxics, AWT—107. Such deliveries are only accepted during normal hours of operation, and special arrangements should be made for deliveries of boxed information.

Instructions: Direct your comments to Docket ID No. EPA-R10-OAR-2011-0315. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, is not placed on the Internet and will be publicly available only in hard copy. Publicly available docket materials are available either electronically in http://www.regulations.gov or in hard copy during normal business hours at the Office of Air, Waste and Toxics, EPA Region 10, 1200 Sixth Avenue, Seattle, WA 98101.

FOR FURTHER INFORMATION CONTACT: Kristin Hall at telephone number: (206) 553-6357, e-mail address: hall.kristin@epa.gov, or the above EPA, Region 10 address.

SUPPLEMENTARY INFORMATION: On March 23, 2011, EPA published a proposed rulemaking to correct errors in the State Implementation Plan (SIP) for the State of Washington regarding the scope of certain regulations incorporated by reference into the SIP. 76 FR 16365. This correction would limit the applicability of certain regulations to pollutants for which National Ambient Air Quality Standards (NAAQS) have been established and precursors to those NAAQS pollutants. EPA received a request that the public comment period be extended to allow more time to review the proposal and prepare comments. In response to this request, EPA is extending the original 30-day comment period for an additional 30 days. The extended comment period will close on May 23, 2011.

All comments received on or before May 23, 2011, will be considered in the development of a final rule. A copy of the request to extend the public comment period has been placed into the docket and may be reviewed electronically or during normal business hours at the locations listed above. Interested parties are invited to comment on all aspects EPA's March 23, 2011, proposal. Comments should be addressed to Kristin Hall at the address listed above.

Dated: April, 8, 2011.
Dennis J. McLerran,
Regional Administrator, Region 10.

[FR Doc. 2011-9290 Filed 4-15-11; 8:45 am]

BILLING CODE 6560-50-P